DEPARTMENT OF COMMERCE

International Trade Administration

[A-428-840]

Lightweight Thermal Paper from Germany: Extension of Time Limits for the Preliminary Results of Antidumping Duty Administrative Review

AGENCY: Import Administration, International Trade Administration, Department of Commerce.

FOR FURTHER INFORMATION CONTACT: Stephanie Moore or George McMahon, AD/CVD Operations, Office 3, Import Administration, International Trade Administration, U.S. Department of Commerce, 14th Street and Constitution Ave, NW, Washington, DC 20230; telephone: (202) 482-3692 or (202) 482-1167, respectively.

SUPPLEMENTARY INFORMATION:

Background

On December 23, 2009, the U.S. Department of Commerce (the Department) published a notice of initiation of the administrative review of the antidumping duty order on lightweight thermal paper from Germany (LTWP), covering the period November 20, 2008, to October 31, 2009. See Initiation of Antidumping and Countervailing Duty Administrative Reviews and Request for Revocation in Part, 74 FR 68229 (December 23, 2009). The notice of the preliminary results is currently due no later than August 9, 2010.¹

¹ As explained in the memorandum from the Deputy Assistant Secretary for Import Administration, the Department has exercised its discretion to toll deadlines for the duration of the closure of the Federal Government from February 5, through February 12, 2010. Thus, all deadlines in this segment of the proceeding have been extended by seven days. The revised deadline for the preliminary results of this antidumping duty administrative review is now August 9, 2010. See Memorandum to the Record from Ronald Lorentzen, DAS for Import Administration, regarding “Tolling of Administrative Deadlines As a Result of the Government Closure During the Recent Snowstorm,” dated February 12, 2010.”

Extension of Time Limit of Preliminary Results

Section 751(a)(3)(A) of the Tariff Act of 1930, as amended (the Act), requires that the Department make a preliminary determination within 245 days after the last day of the anniversary month of an order for which a review is requested. Section 751(a)(3)(A) of the Act further states that if it is not practicable to complete the review within the time period specified, the administering authority may extend the 245-day period to issue its preliminary results to up to 365 days. We determine that completion of the preliminary results of this review within the 245-day period is not practicable because of the allegations raised by petitioner. Specifically, petitioner alleges that during the period of review (POR) Papierfabrik August Koehler AG and Koehler America, Inc. (collectively, Koehler) made a substantial number of sales below the cost of production in the home market, and that Koehler's home market sales of a certain model constitute a fictitious market.

During the investigation, the Department did not find that Koehler's sales were at prices less than the cost of production. See Lightweight Thermal Paper from Germany: Notice of Preliminary Determination of Sales at Less Than Fair Value and Postponement of Final Determination, 73 FR 27498, 27502 (May 13, 2008), unchanged in the final results. However, based on an allegation submitted by petitioner on April 16, 2010, the Department determined that there are reasonable grounds to believe or suspect that Koehler made sales of the subject merchandise in Germany at prices below its cost of production, pursuant to section 773(b) of the Act and initiated a cost of production review.

Given the complexity of the issues in this case, the Department needs more time to gather and analyze additional information. In accordance with section 751(a)(3)(A) of the Act, we are fully extending the time period for issuing the preliminary results of this review by 120 days. Therefore, the preliminary results are now due no later than December 7, 2010. The final results continue to be due 120 days after publication of the preliminary results.

This notice is published pursuant to sections 751(a)(3)(A) and 777(i)(1) of the Act.

Dated: July 12, 2010.
Edward C. Yang,
Acting Deputy Assistant Secretary for Antidumping and Countervailing Duty Operations.

[FR Doc. 2010-17426 Filed 7-15-10; 8:45 am]

BILLING CODE 3510-DS-S